DEPARTMENT OF THE INTERIOR

Bureau of Land Management

[1610 (014); Re: DCN #0-0264]

Notice of Intent To Prepare a Plan Amendment for the Upper Klamath Basin and Wood River Wetland RMP/EIS, Oregon

June 29, 2000.

AGENCY: Department of the Interior, Bureau of Land Management, Lakeview District, Klamath Falls Resource Area.

ACTION: Notice of Intent to Prepare a Plan Amendment and Environmental Impact Statement for the Upper Klamath Basin and Wood River Wetland RMP/EIS nominating and designating the Fourmile property as an Area of Critical Environmental Concern (ACEC) in South-central Oregon.

SUMMARY: Pursuant to Section 102(2)(C) of the National Environmental Policy Act of 1969, the Bureau of Land Management, Lakeview District/Klamath Falls Resource Area will be directing the preparation of a Plan Amendment and Environmental Impact Statement (EIS) evaluating the impacts of designating the Fourmile property as an Area of Critical Environmental Concern (ACEC), proposed on public lands in Klamath County of south-central Oregon.

DATES: The Draft RMP plan amendment and EIS analysis would be available for public review by December of 2000. The Record of Decision and Final RMP designating Fourmile as an ACEC will be made in July of 2001.

ADDRESSES: Comments should be sent to Manager, Bureau of Land Management, Klamath Falls Resource Area, 2795 Anderson Avenue, Klamath Falls, OR 97603, ATTN: Upper Klamath Basin Wood River Wetland Plan Amendment.

FOR FURTHER INFORMATION CONTACT: Teresa A. Raml, Manager, (541) 883-6916

SUPPLEMENTARY INFORMATION: The proposed Plan Amendment is located on the Klamath Falls Resource Area of the Lakeview District. The evaluation for nominating the Fourmile area as an Area of Critical Environmental Concern will be completed in the summer of 2000. An ACEC designation allows the BLM to give special management attention to an area to protect and prevent irreparable damage to important historic, cultural and scenic values; fish or wildlife resources; or other natural systems or processes; or to protect human life and safety from natural hazards. The ACEC designation indicates that the BLM not only recognizes an area possesses significant values, but has also established special management measures to protect those values.

The primary reasons for the ACEC designation are (1) Klamath Basin water quality concerns, (2) endangered sucker species and critical habitat, and (3) other species of special importance (yellow rails and spotted frogs).

Teresa A. Raml,
Manager, Klamath Falls Resource Area.

[FR Doc. 00-19066 Filed 7-27-00; 8:45 am]

BILLING CODE 4310-33-U